SMALL BUSINESS ADMINISTRATION

[Disaster Declaration #16242; Mississippi Disaster Number MS-00119 Declaration of Economic Injury]

Administrative Declaration of an Economic Injury Disaster for the State of Mississippi

AGENCY: U.S. Small Business Administration.

ACTION: Notice.

SUMMARY: This is a notice of an Economic Injury Disaster Loan (EIDL) declaration for the State of Mississippi, dated 01/16/2020.

Incident: Blue-Green Algae on the Gulf Coast of Mississippi.

Incident Period: 06/22/2019 through 10/05/2019.

DATES: Issued on 01/16/2020.

Economic Injury (EIDL) Loan Application Deadline Date: 10/16/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Hancock, Harrison, Jackson.

Contiguous Counties:

Mississippi: George, Pearl River, Stone

Alabama: Mobile

Louisiana: Saint Tammany

The Interest Rates are:

| Percent
Businesses and Small Agricultural Cooperatives without Credit Available Elsewhere | 4.000
Non-Profit Organizations without Credit Available Elsewhere | 2.750

The number assigned to this disaster for economic injury is 162420.

The States which received an EIDL Declaration # are Mississippi, Alabama, Louisiana.

(Catalog of Federal Domestic Assistance Number 59008)

Dated: January 16, 2020.
Jovita Carranza,
Administrator.

[FR Doc. 2020-01194 Filed 1-23-20; 8:45 am]

BILLING CODE 8026-03-P